DEPARTMENT OF ENERGY

Federal Energy Regulatory Commission

18 CFR Part 284

[Docket No. RM12-17-000; Order No. 781]

Revisions to Procedural Regulations Governing Transportation by Intrastate Pipelines; Correction

AGENCY: Federal Energy Regulatory Commission, DOE.

ACTION: Final rule; correction.

SUMMARY: This document contains corrections to the final rule (RM12-17-000) which was published in the Federal Register on Tuesday, July 30, 2013 (78 FR 45850). The regulations amends its regulations to provide optional notice procedures for processing rate filings by those natural gas pipelines that fall under the Commission's jurisdiction pursuant to the Natural Gas Policy Act of 1978 or the Natural Gas Act. The rule results in regulatory certainty and a reduction of regulatory burdens.

DATES: Effective September 30, 2013.

FOR FURTHER INFORMATION CONTACT:

David Tishman (Legal Information), Office of the General Counsel, Federal Energy Regulatory Commission, 888 First Street NE., Washington, DC 20426, (202) 502-8515, David.Tishman@ferc.gov.

James Sarikas (Technical Information), Office of Energy Market Regulation, Federal Energy Regulatory Commission, 888 First Street NE., Washington, DC 20426, (202) 502-6831, James.Sarikas@ferc.gov.

SUPPLEMENTARY INFORMATION:

Need for Correction

On July 18, 2013, the Commission issued a “Final Rule, Order No. 781” in the above-captioned proceeding. Revisions to Procedural Regulations Governing Transportation by Intrastate Pipelines, 144 FERC ¶ 61,034 (2013).

This document serves to correct the table in Paragraph 82. Specifically, the last figure in the “total Annual Burden Hours” column is changed from “854” to “852”.

Accordingly, in rule FR Doc. No. 2013-17822 published in the July 30, 2013 (78 FR 45850), on page 45861, in the table in paragraph 82, the entry in the “Total annual burden hours (a × b)” column for the entry “FERC-549 Total,” the figure “854” is corrected to read “852”.

Dated: August 21, 2013.
Nathaniel J. Davis, Sr.,
Deputy Secretary.

[FR Doc. 2013-20865 Filed 8-26-13; 8:45 am]

BILLING CODE 6717-01-P